NUCLEAR REGULATORY COMMISSION

[Docket No. 72-1026]

BNFL Fuel Solutions Corporation; Issuance of Environmental Assessment and Finding of No Significant Impact Regarding the Proposed Exemption From Requirements of 10 CFR Part 72

By letter dated January 14, 2000, BNFL Fuel Solutions Corporation (BFS or applicant) requested an exemption, pursuant to 10 CFR 72.7, from the requirements of 10 CFR 72.234(c). BFS, located in Scotts Valley, California, is seeking Nuclear Regulatory Commission (NRC or the Commission) approval to procure materials for and fabricate 14 Wesflex W150 storage casks prior to receipt of a Certificate of Compliance (CoC) for the Wesflex Spent Fuel Management System (Wesflex System). The Wesflex storage cask is a basic component of the Wesflex System, a cask system designed for the dry storage of spent fuel. The Wesflex System is intended for use under the general license provisions of Subpart K of 10 CFR part 72 by Consumers Energy at the Palisades Nuclear Plant, located in Covert, Michigan, and at the Big Rock Point Nuclear Plant, located in Charlevoix, Michigan. The application for the CoC was submitted by BFS to the Commission on February 3, 1998, as supplemented.

Environmental Assessment (EA)

Identification of Proposed Action

BFS is seeking Commission approval to procure materials for and fabricate 14 Wesflex W150 storage casks prior to receipt of the CoC. The applicant is requesting an exemption from the requirements of 10 CFR 72.234(c), which states that “Fabrication of casks under the Certificate of Compliance must not start prior to receipt of the Certificate of Compliance for the cask model.” The proposed action before the Commission is whether to grant this exemption under 10 CFR 72.7.

Need for the Proposed Action

BFS requested the exemption to 10 CFR 72.234(c) to ensure the availability of storage casks so that Consumers Energy can maintain full core offload capability at the Palisades Nuclear Plant. Palisades will lose full core offload capability after its planned April 2001 refueling outage. Currently, the Ventilated Storage Cask—24 (VSC-24), fabricated by Sierra Nuclear Corporation, is used at Palisades for the dry storage of spent fuel. However, the licensee requires another cask option because the storage capability of the VSC-24 is limited by its burnup and enrichment requirements. Beyond April 2001, a significant portion of the remaining and future spent fuel inventory at Palisades will not meet the VSC-24 burnup and enrichment limits. Already, there are nearly 250 spent fuel assemblies at Palisades that do not qualify for storage in the VSC-24.

BFS is also requesting the exemption to ensure the availability of dry storage casks at Big Rock Point to support its decommissioning schedule. The Big Rock Point decommissioning schedule requires that all fuel be loaded into dry storage casks by 2002.

To maintain full core offload at Palisades and to meet Big Rock Point's decommissioning schedule, Consumers Energy anticipates that fuel loading of Wesflex Systems would need to begin in 2001 at both sites. Thus, at both Palisades and Big Rock Point, the availability of the Wesflex System is needed in 2000 to support training and dry runs in anticipation of loading fuel in the following year. To meet this schedule, procurement of the W150 storage cask materials must begin promptly.

The Wesflex System CoC application is under consideration by the Commission. It is anticipated that, if approved, the CoC would be issued in early 2001.

The proposed procurement and fabrication exemption will not authorize use of the Wesflex System to store spent fuel. That will occur only when, and if, a CoC is issued. NRC approval of the procurement and fabrication exemption request should not be construed as an NRC commitment to favorably consider BFS's application for a CoC. BFS will bear the risk of all activities conducted under the exemption, including the risk that the 14 storage casks that BFS plans to construct may not be usable because they may not meet specifications or conditions placed in a CoC that NRC may ultimately approve.

Environmental Impacts of the Proposed Action

The Environmental Assessment for the final rule, “Storage of Spent Nuclear Fuel in NRC-Approved Storage Casks at Nuclear Power Reactor Sites” (55 FR 29181 (1990)), considered the potential environmental impacts of casks which are used to store spent fuel under a CoC and concluded that there would be no significant environmental impacts. The proposed action now under consideration would not permit use of the Wesflex System, but only procurement and fabrication. There are no radiological environmental impacts from procurement or fabrication since the storage cask material procurement and fabrication does not involve radioactive materials. The major non-radiological environmental impacts involve use of natural resources due to fabrication. Each W150 storage cask weighs approximately 127 tons and is made of reinforced concrete and steel. The amount of steel required for these storage casks is expected to have very little impact on the steel industry. Fabrication of the steel liner and guide rails would be at a metal fabrication facility, not at the reactor site. Fabrication of the storage casks is insignificant compared to the amount of metal fabrication performed annually in the United States. If the storage casks are not usable, they could be disposed of or recycled. The amount of material disposed of is insignificant compared to the amount of steel that is disposed of annually in the United States. Based upon this information, the procurement of materials and fabrication of the storage cask will have no significant impact on the environment since no radioactive materials are involved, and the amount of natural resources used is minimal.

Alternative to the Proposed Action

Since there is no significant environmental impact associated with the proposed action, any alternatives with equal or greater environmental impact are not evaluated. The alternative to the proposed action would be to deny approval of the exemption and, therefore, not allow procurement of materials and fabrication of the storage cask until a CoC is issued. This alternative would have the same, or greater, environmental impact.

Given that there are no significant differences in environmental impacts between the proposed action and the alternative considered and that the applicant has a legitimate need to procure materials and fabricate prior to certification and is willing to assume the risk that any material procured or any storage cask fabricated may not be approved or may require modification, the Commission concludes that the preferred alternative is to approve the procurement and fabrication request and grant the exemption from the prohibition on fabrication prior to receipt of a CoC.

Agencies and Persons Consulted

Mr. Lou Brandon, an official from the Michigan Department of Environmental Quality, was contacted on February 2, 2000, about the EA for the proposed action and had no comments.

Finding of No Significant Impact

The environmental impacts of the proposed action have been reviewed in accordance with the requirements set forth in 10 CFR Part 51. Based upon the foregoing EA, the Commission finds that the proposed action of granting an exemption from 10 CFR 72.234(c) so that BFS may procure materials for and fabricate 14 Wesflex W150 storage casks prior to issuance of a CoC for the Wesflex System will not significantly impact the quality of the human environment. Accordingly, the Commission has determined not to prepare an environmental impact statement for the proposed exemption.

The request for the exemption from 10 CFR 72.234(c) was filed by BFS on January 14, 2000. For further details with respect to this action, see the application for a CoC for the Wesflex System, dated February 3, 1998, as supplemented. The exemption request and CoC application are docketed under 10 CFR part 72, Docket 72-1026. The exemption request and the non-proprietary version of the CoC application are available for public inspection at the Commission's Public Document Room, 2120 L Street, NW, Washington, DC 20555.

Dated at Rockville, Maryland, this 22nd day of February 2000.
For the Nuclear Regulatory Commission.
Susan F. Shankman,
Deputy Director, Licensing and Inspection Directorate, Spent Fuel Project Office, Office of Nuclear Material Safety and Safeguards.

[FR Doc. 00-4889 Filed 2-29-00; 8:45 am]

BILLING CODE 7590-01-P